DEPARTMENT OF AGRICULTURE

Forest Service

Bridger-Teton National Forest, Wyoming, Supplemental Analysis To Consider Potential Field Development (Master Development Plan) Subsequent to Proposed Exploratory Drilling by Plains Exploration and Production Company (PXP) Within the South Rim Unit on the Big Piney Ranger District

AGENCY: Forest Service, USDA.

ACTION: Supplemental notice of intent to prepare an environmental impact statement.

SUMMARY: The Bridger-Teton National Forest prepared a Draft Environmental Impact Statement (DEIS) in response to a request from PXP to drill an exploratory well on the Big Piney Ranger District, along with two additional wells on the same drill pad should the initial well be productive. After release of the DEIS for the Eagle Prospect exploratory wells and in response to public comments and a request from PXP relative to cumulative effects, the Forest will expand the analysis to address a potential field development scenario or master Development Plan, as provided for in the newly revised Onshore Order No. 1. this constitutes a substantial change in the proposed action analyzed in the DEIS and therefore requires the Forest to revise the analysis and prepare a new DEIS.

DATES: Comments concerning the expanded scope of the analysis must be postmarked by February 7, 2008. Comments previously submitted as part of the original scoping or comments submitted on the Eagle Prospect DEIS released in February of 2007 need not be re-submitted. The new DEIS is expected in May of 2008 and the Final Environmental Impact Statement (FEIS) is expected in March of 2009.

ADDRESSES: Send written comments to Greg Clark, District Ranger, Big Piney Ranger District, P.O. Box 218, Big Piney, Wyoming 83113 (307-276-5810). Send electronic comments to: comments-intermtn-bridger-teton@fs.fed.us, Subject “PXP Master Development Plan.”

FOR FURTHER INFORMATION CONTACT: Greg Clark, District Ranger, Big Piney Ranger District, P.O. Box 218, Big Piney, Wyoming 83113 (307-276-5810).

SUPPLEMENTARY INFORMATION: Plains Exploration and Production Company (PXP) submitted an Application for Permit to Drill (APD) for the Eagle 1-8 exploratory well and APDs for the Eagle 2-8 and 3-8 wells, which would be drilled from the same well pad. A DEIS for this project was released to the public in February 2007. Based on comments received and discussions with various agencies, PXP has decided to incorporate a Master Development Plan into their original exploratory proposal for the Eagle Prospect. The intent is to drill the originally proposed well and if successful, drill the Eagle 2-8 and 3-8 wells. The Master Development Plan provides a potential development scenario that could occur based on the results of the initial wells. Consideration of the Master Development Plan allows for analysis of potential cumulative effects early in the process. If subsequent development occurs, and occurs within the parameters of the approved Master Development Plan, further analysis will not be required. The Master Development Plan includes planned, anticipated, and potential development facilities which will be dependent on the results of the first wells drilled. Some or all of the Master Development Plan may never occur. If full implementation of the Master Development Plan occurs, including exploratory drilling and potential development scenario, the plan would potentially involve 136 wells being drilled from 17 well pads, construction of 15 miles of new non-system roads, and reconstruction or realignment of 14 miles of existing system roads on National Forest System (NFS) lands. About 400 acres of potential new surface disturbance from roads, well pads, gathering lines for gas and produced liquids buried immediately adjacent to roads, and other facilities would be anticipated. The total potential disturbance represents about one well pad per section and a 40-acre spacing for well bottomhole locations.

Purpose and Need for Action

The Forest Service has previously approved surface operating requirements in the form of lease stipulations and notices, and BLM has incorporated these provisions within oil and gas leases which authorize the exploration for and the development of federal oil and gas resources in this area. The purpose and need for action is to determine whether and how (with what conditions of approval) to approve the exploration and potential development identified in the Master Development Plan submitted by PXP for lease operations on the Big Piney District, Bridger-Teton National Forest. The Forest Service needs to make a decision regarding the Master Surface Use Plan of Operations and the BLM needs to make a decision regarding the overall Master Development Plan and associated APDs.

Proposed Action

The proposed action is for the Forest Service to approve, with appropriate mitigation, the Master Surface Use Plan of Operations portion of the Master Development Plan, including necessary access and related facilities associated with the exercise of PXP's lease rights, and for the BLM to approve, with appropriate conditions of approval, the Master Development Plan and associated APDs.

Possible Alternatives

The alternatives to be considered for the Master Development Plan will focus on parameters for development rather than specific orientation of the well pad or a surveyed access road location. Specific surveys and designs will be completed before approval of subsequent APDs as part of implementation under the Master Development Plan. Three preliminary alternatives have been identified: (1) The no action alternative, (2) the proposed action—approval of PXP's Master Development Plan which includes three pending APDs and potential future development, and (3) the approval of the proposed Master Development Plan with modifications. As part of the project design, the Forest has worked closely with PXP in the development of a plan that included consideration of lease stipulations, Forest Plan standards and guidelines, and other resource needs. Components of the proposed project that did not meet those requirements were modified in the design stage. Access alternatives, including the use of helicopters instead of roads, will be fully explored as potential modifications to the Master Development Plan.

Lead and Cooperating Agencies

The Forest Service is the lead agency. The BLM and the State of Wyoming are cooperating agencies.

Responsible Official

The responsible Forest officer for the decision on the surface use portion of the Master Development Plan is Greg Clark, District Ranger, Big Piney Ranger District, P.O. Box 218, Big Piney, Wyoming 83113 (307-276-5810). The responsible BLM official for the final decision on the Master Development Plan and associated APDs, which will incorporate the Forest Service decision, is Robert A. Bennett, State Director, BLM—Wyoming State Office, P.O. Box 1828, Cheyenne, Wyoming 82009.

Nature of Decision To Be Made

The Forest Service decision will be whether to approve the Master Surface Use Plan of Operations submitted by PXP for the proposed exploration and potential development outlined in the Master Development Plan for the Eagle Prospect and Noble Basin areas. The Forest Service decision will specify appropriate mitigation, access requirements, gathering lines, other facilities, and design criteria that will be applied to project implementation. The BLM will review the Master Drilling Plan submitted by PXP and make a final decision on the Master Development Plan and associated APDs. Subsequent processing of APDs and related authorizations constitutes implementation of this decision so long as all authorizing actions are consistent with lease terms and within the scope and framework of the approved Master Development Plan.

Scoping Process

The first formal opportunity to respond to the proposed action listed above was during the original public scoping process (40 CFR 1501.7) for the Notice of Intent published in the Federal Register on January 11, 2006. A scoping notice was also published in the Casper Star Tribune on January 13, 2006. Scoping for a supplemental statement is not required (40 CFR 1502.9(c)(4), but due to the change in the scope of the analysis, the Forest is soliciting comments specific to the Master Development Plan and potential field development. Issues raised during the initial scoping period or the public comment period on the Eagle Prospect DEIS need not be re-submitted. Letters will be sent to the Forest mailing list of known interested parties. Public meetings in Jackson and Pinedale, Wyoming are anticipated during January of 2008. The time and place for any public meetings will be published in the local papers and posted on the Forest Web site. The scoping process will assist the Forest in identifying specific issues to be addressed related to the purpose and need and the scope of the decision. Mail comments to the addresses given above for further information. Ongoing information related to the proposed action and related analysis will be posted on the Bridger-Teton National Forest Web site http://www.fs.fed.us/r4/btnf.

Preliminary Issues

Preliminary issues associated with the proposed action include:

(1) The drilling and production of the proposed wells could impact air quality and air quality related values, with emphasis on cumulative effects due to extensive development in the Pinedale area.

(2) The development of a transportation system to support field development could adversely affect wildlife habitat, movements or migration routes in the area.

Permits or Licenses Required

If the decision is for the Forest Service to approve PXP's Surface Use Plan of Operations and the BLM to approve the Master Development Plan and associated APDs, subsequent APDs will be authorized through the approved Master Development Plan. (Onshore Order No. 1 Section III.H.)

Comment Requested

This notice of intent re-opens the scoping process which guides the development of the environmental impact statement. Comments submitted in response to the initial notice of intent need not be re-submitted and remain a part of the project record.

Early Notice of Importance of Public Participation in Subsequent Environmental Review: A new DEIS will be prepared for comment. The comment period on the DEIS will be for a period of 45 days from the date the Environmental Protection Agency publishes the notice of availability in the Federal Register.

The Forest Service begins, at this early stage, it is important to give reviewers notice of several court rulings related to public participation in the environmental review process. First, reviewers of a DEIS must structure their participation in the environmental review of the proposal so that it is meaningful and alerts an agency to the reviewer's position and contentions. Vermont Yankee Nuclear Power Corp. v. NRDC, 435 U.S. 519, 553 (1978). Also, environmental objections that could be raised at the DEIS stage but that are not raised until after completion of the FEIS may be waived or dismissed by the courts. City of Angoon v. Hodel, 803 F.2d 1016, 1022 (9th Cir 1986) and Wisconsin Heritages, Inc. v. Harris, 490 F. Supp. 1334, 1338 (E.D. Wis. 1980). Because of these court rulings, it is very important that those interested in this proposed action participate by the close of the 45 day comment period on the DEIS so that substantive comments and objections are made available to the Forest Service at a time when the agency can meaningfully consider them and respond to them in the FEIS.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: December 3, 2007.
Gregory Clark,
District Forest Ranger/Big Piney Ranger District.

[FR Doc. 07-5994 Filed 12-7-07; 8:45 am]

BILLING CODE 3410-11-M